SUSQUEHANNA RIVER BASIN COMMISSION

Public Hearing

AGENCY: Susquehanna River Basin Commission.

ACTION: Notice.

SUMMARY: The Susquehanna River Basin Commission will hold a public hearing on August 2, 2018, in Harrisburg, Pennsylvania. At this public hearing, the Commission will hear testimony on the projects listed in the Supplementary Information section of this notice. Such projects are intended to be scheduled for Commission action at its next business meeting, tentatively scheduled for September 7, 2018, which will be noticed separately. The public should take note that this public hearing will be the only opportunity to offer oral comment to the Commission for the listed projects. The deadline for the submission of written comments is August 13, 2018.

DATES: The public hearing will convene on August 2, 2018, at 2:30 p.m. The public hearing will end at 5:00 p.m. or at the conclusion of public testimony, whichever is sooner. The deadline for the submission of written comments is August 13, 2018.

ADDRESSES: The public hearing will be conducted at the Pennsylvania State Capitol, Room 8E-B, East Wing, Commonwealth Avenue, Harrisburg, Pa.

FOR FURTHER INFORMATION CONTACT: Gwyn Rowland, Manager, Governmental and Public Affairs, telephone: (717) 238-0423, ext. 1316; fax: (717) 238-2436.

Information concerning the applications for these projects is available at the Commission's Water Application and Approval Viewer at https://mdw.srbc.net/waav. Additional supporting documents are available to inspect and copy in accordance with the Commission's Access to Records Policy at www.srbc.net/regulatory/policies-guidance/docs/access-to-records-policy-2009-02.pdf.

SUPPLEMENTARY INFORMATION: The public hearing will cover the following projects:

Projects Scheduled for Action

1. Project Sponsor: Aqua Pennsylvania, Inc. Project Facility: Beech Mountain System, Butler Township, Luzerne County, Pa. Application for groundwater withdrawal of up to 0.144 mgd (30-day average) from Beech Mountain Well 1.

2. Project Sponsor: Aqua Pennsylvania, Inc. Project Facility: Beech Mountain System, Butler Township, Luzerne County, Pa. Application for groundwater withdrawal of up to 0.144 mgd (30-day average) from Beech Mountain Well 2.

3. Project Sponsor: Aqua Pennsylvania, Inc. Project Facility: Beech Mountain System, Butler Township, Luzerne County, Pa. Application for groundwater withdrawal of up to 0.124 mgd (30-day average) from Beech Mountain Well 3.

4. Project Sponsor and Facility: ARD Operating, LLC (Pine Creek), McHenry Township, Lycoming County, Pa. Application for renewal of surface water withdrawal of up to 0.499 mgd (peak day) (Docket No. 20140902).

5. Project Sponsor and Facility: BKV Operating, LLC (East Branch Wyalusing Creek), Jessup Township, Susquehanna County, Pa. Application for renewal of surface water withdrawal of up to 0.999 mgd (peak day) (Docket No. 20140904).

6. Project Sponsor and Facility: Cabot Oil & Gas Corporation (Tunkhannock Creek), Nicholson Township, Wyoming County, Pa. Application for renewal of surface water withdrawal of up to 2.000 mgd (peak day) (Docket No. 20140903).

7. Project Sponsor and Facility: Columbia Water Company, Hellam Township, York County, Pa. Application for groundwater withdrawal of up to 0.015 mgd (30-day average) from Dugan Well 4.

8. Project Sponsor and Facility: Eclipse Resources-PA, LP (Cowanesque River), Deerfield Township, Tioga County, Pa. Application for surface water withdrawal of up to 3.000 mgd (peak day).

9. Project Sponsor and Facility: Eclipse Resources-PA, LP (Pine Creek), Gaines Township, Tioga County, Pa. Application for surface water withdrawal of up to 3.000 mgd (peak day).

10. Project Sponsor and Facility: Elizabethtown Area Water Authority, Elizabethtown Borough, Lancaster County, Pa. Application for renewal of groundwater withdrawal of up to 0.300 mgd (30-day average) from Well 5 (Docket No. 19880402).

11. Project Sponsor and Facility: Inflection Energy (PA) LLC (Loyalsock Creek), Upper Fairfield Township, Lycoming County, Pa. Application for renewal of surface water withdrawal of up to 1.700 mgd (peak day) (Docket No. 20140905).

12. Project Sponsor: Lancaster County Solid Waste Management Authority. Project Facility: Solid Waste Resource Recovery, Conoy Township, Lancaster County, Pa. Application for renewal of consumptive use of up to 0.950 mgd (peak day) (Docket No. 19880901).

13. Project Sponsor and Facility: Repsol Oil & Gas USA, LLC (Susquehanna River), Terry Township, Bradford County, Pa. Application for renewal of surface water withdrawal of up to 1.500 mgd (peak day) (Docket No. 20140909).

14. Project Sponsor and Facility: Repsol Oil & Gas USA, LLC (Wappasening Creek), Windham Township, Bradford County, Pa. Application for renewal of surface water withdrawal of up to 0.999 mgd (peak day) (Docket No. 20140910).

15. Project Sponsor and Facility: SWEPI LP (Cowanesque River), Deerfield Township, Tioga County, Pa. Modification to reduce surface water withdrawal from 2.000 mgd to 1.000 mgd (peak day) and reassess passby flow thresholds (Docket No. 20161218).

16. Project Sponsor and Facility: Togg Mountain LLC, Town of Fabius, Onondaga County, N.Y. Application for consumptive use of up to 0.485 mgd (peak day).

17. Project Sponsor and Facility: Togg Mountain LLC (West Branch of Tioughnioga Creek), Town of Fabius, Onondaga County, N.Y. Application for surface water withdrawal of up to 2.200 mgd (peak day).

18. Project Sponsor and Facility: Towanda Municipal Authority, North Towanda Township, Bradford County, Pa. Application for groundwater withdrawal of up to 0.432 mgd (30-day average) from Church Production Well 1.

19. Project Sponsor and Facility: Towanda Municipal Authority, North Towanda Township, Bradford County, Pa. Application for groundwater withdrawal of up to 1.000 mgd (30-day average) from Roberts Production Well 1.

20. Project Sponsor and Facility: Towanda Municipal Authority, North Towanda Township, Bradford County, Pa. Application for groundwater withdrawal of up to 1.000 mgd (30-day average) from Roberts Production Well 2.

The Commission will also be considering a resolution to approve a consumptive use water storage and mitigation project proposed by the Commission pursuant to Articles 3, 4, 7, 12, 14 and 15 of the Susquehanna River Basin Compact, at the Billmeyer Quarry, a nonoperational quarry located on property owned by the Lancaster County Solid Waste Management Authority in Conoy Township, Lancaster County, Pa. Information concerning the project (Pending Project Number 2018-054) is also available at the Commission's Water Application and Approval Viewer at http://mdw.srbc.net/waav.

Opportunity To Appear and Comment

Interested parties may appear at the hearing to offer comments to the Commission on any business listed above required to be subject of a public hearing. The presiding officer reserves the right to limit oral statements in the interest of time and to otherwise control the course of the hearing. Guidelines for the public hearing are posted on the Commission's website, www.srbc.net, prior to the hearing for review. The presiding officer reserves the right to modify or supplement such guidelines at the hearing. Written comments on any business listed above required to be subject of a public hearing may also be mailed to Ms. Gwyn Rowland, Manager, Governmental and Public Affairs, Susquehanna River Basin Commission, 4423 North Front Street, Harrisburg, Pa. 17110-1788, or submitted electronically through www.srbc.net/about/meetings-events/public-hearing.html. Comments mailed or electronically submitted must be received by the Commission on or before August 13, 2018, to be considered.

Authority: Pub. L. 91-575, 84 Stat. 1509 et seq., 18 CFR parts 806, 807, and 808.

Dated: June 28, 2018.
Stephanie L. Richardson,
Secretary to the Commission.

[FR Doc. 2018-14350 Filed 7-3-18; 8:45 am]

BILLING CODE 7040-01-P